ENVIRONMENTAL PROTECTION AGENCY

40 CFR Part 52

[EPA-R05-OAR-2021-0544; FRL-12175-03-R5]

Air Plan Approval; Ohio; Regional Haze Plan for the Second Implementation Period; Extension of Comment Period

AGENCY: Environmental Protection Agency (EPA).

ACTION: Proposed rule; extension of public comment period.

SUMMARY: The Environmental Protection Agency (EPA) is extending the comment period for a proposed rule published August 30, 2024. The current comment period for the proposed rule was set to end on September 30, 2024. In response to a request in a public comment, EPA is extending the comment period for the proposed action to October 15, 2024.

DATES: The comment period for the proposed rule published on August 30, 2024, at 89 FR 71124 is extended. Comments must be received on or before October 15, 2024.

ADDRESSES: Submit your comments, identified by Docket ID No. EPA-R05-OAR-2021-0544 at https://www.regulations.gov, or via email to langman.michael@epa.gov. Additional instructions to comment can be found in the notice of proposed rulemaking published August 30, 2024 (89 FR 71124).

FOR FURTHER INFORMATION CONTACT: Alisa Liu, Air and Radiation Division (AR-18J), Environmental Protection Agency, Region 5, 77 West Jackson Boulevard, Chicago, Illinois 60604, (312) 886-6524, liu.alisa@epa.gov.

SUPPLEMENTARY INFORMATION: On August 21, 2024, EPA proposed to approve the Regional Haze State Implementation Plan revision submitted by the Ohio Environmental Protection Agency on July 30, 2021, as satisfying applicable requirements under the Clean Air Act and EPA's Regional Haze Rule for the program's second implementation period. In response to a request in a public comment, EPA is extending the comment period for 15 days.

Dated: September 13, 2024.
Debra Shore,
Regional Administrator, Region 5.

[FR Doc. 2024-21267 Filed 9-17-24; 8:45 am]

BILLING CODE 6560-50-P